DEPARTMENT OF TRANSPORTATION

Federal Aviation Administration

Notice of Intent To Request Renewal From the Office of Management and Budget (OMB) of Seven Current Public Collections of Information

AGENCY: Federal Aviation Administration (FAA), DOT.

ACTION: Notice.

SUMMARY: In compliance with the Paperwork Reduction Act (44 U.S.C. 3501 et seq.) the FAA invites public comment on seven currently approved public information collections which will be submitted to OMB for renewal.

DATES: Comments must be received on or before April 13, 2005.

ADDRESSES: Comments may be mailed or delivered to the FAA at the following address: Ms. Judy Street, Federal Aviation Administration, Information Systems and Technology Services Staff, ABA-20, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0003: Malfunction or Defect Report. Collection of this information allows the FAA to evaluate its certification standards, maintenance programs, and regulatory requirements since their effectiveness is reflected in the number of equipment failures or lack thereof. It is also the basis for issuance of Airworthiness Directives designed to prevent unsafe conditions and accidents. The current estimated annual reporting burden is 8,407 hours.

2. 2120-0027: Application for Certificate of Waiver or Authorization. Part A of Subtitle VII of the Revised Table 49, United States Code, authorizes the issuance of regulations governing the use of navigable airspace. 14 CFR Parts 91, 101, and 105 prescribe regulations governing the general operation and flight of aircraft, moored balloons, kits, unmanned rockets, unmanned free balloons, and parachute jumping. Applicants are individual airmen, state and local governments, and businesses. The current estimated annual reporting burden is 12,202 hours.

3. 2120-0042: Aircraft Registration. The information collected is used by the FAA to register aircraft or hold an aircraft in trust. The information required to register and prove ownership of an aircraft is required by any person wishing to register an aircraft. The current estimated annual reporting burden is 73,572 hours.

4. 2120-0507: Development of Major Repair Data. SFAR 36 (to part 121) relieves qualifying applicants (Aircraft maintenance, commercial aviation, aircraft repair stations, air carriers, commercial operators) of the burden to obtain FAA approval of data developed by them for the major repairs on a case-by-case basis; and provides for one-time approvals. The current estimated annual reporting burden is 326 hours.

5. 2120-0514: War Risk Insurance. The requested information is included in air carriers' applications for insurance when insurance is not available from private sources. The current estimated annual reporting burden is 1,668 hours.

6. 2120-0679: Reduced Vertical Separation Minimum (RVSM): Aircraft operators seeking operational approval to conduct RVSM operations within the 48 contiguous States of the United States (U.S.), Alaska and that portion of the Gulf of Mexico where the FAA provides air traffic services must submit their application to the Certificate Holding District Office (CHDO). The CHDO registers RVSM approved airframes in the FAA RVSM Approvals Database. When operators complete airworthiness, continued airworthiness and operations program requirements, the CHDO grants operational approval. The current estimated annual reporting burden is 68,250 hours.

7. 2120-0698: Advisory Circular (AC): Reporting of Laser Illumination of Civil Aircraft. This collection covers the procedures for pilots to report the unauthorized laser illumination of aircraft to air traffic control, and if necessary to issue emergency notification of that unauthorized illumination to other pilots in the area. The current estimated annual reporting burden is 100 hours.

Issued in Washington, DC, on February 10, 2005.
Judith D. Street,
FAA Information Collection Clearance Officer, ABA-20.

[FR Doc. 05-3017 Filed 2-16-05; 8:45 am]

BILLING CODE 4910-13-M